DEPARTMENT OF TRANSPORTATION

Federal Aviation Administration

14 CFR Part 71

[Docket No. FAA-2014-0104; Airspace Docket No. 13-AEA-4]

RIN 2120-AA66

Proposed Amendment and Revocation of Jet Routes; Northeast United States

AGENCY: Federal Aviation Administration (FAA), DOT.

ACTION: Notice of proposed rulemaking (NPRM).

SUMMARY: This action proposes to modify segments of jet routes J-64 and J-80, and remove jet route J-77, in the northeastern United States. The FAA is proposing this action because segments of these routes are receiving minimal to no usage due to other more efficient routes in the area. This action would eliminate unneeded route segments, reduce chart clutter and improve chart readability.

DATES: Comments must be received on or before April 28, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2014-0104 and Airspace Docket No. 13-AEA-4 at the beginning of your comments. You may also submit comments through the Internet at http://www.regulations.gov.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2014-0104 and Airspace Docket No. 13-AEA-4) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2014-0104 and Airspace Docket No. 13-AEA-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

On October 20, 2011, the FAA amended part of the high altitude route structure in the northeastern United States to expedite the routing of westbound traffic departing the New York Metropolitan area and to realign high altitude overflight traffic to help reduce delays within New York terminal airspace (76 FR 57902). The new and amended routes from that action have enhanced air traffic flows in the area and have become the routes of primary use. The FAA determined that jet route J-77, and portions of jet routes J-64 and J-80, are receiving minimal usage and have been made essentially redundant by other, more efficient route options available in that area.

The Proposal

The FAA is proposing an amendment to Title 14, Code of Federal Regulations (14 CFR) part 71 to eliminate portions of jet routes J-64 and J-80 and to remove jet route J-77 in the northeastern United States. The proposed changes would eliminate segments that no longer benefit the efficiency of the National Airspace System, reduce chart clutter and improve readability of the affected Enroute High Altitude charts. The proposed route changes are outlined below.

J-64: J-64, currently extending between Los Angeles, CA, and Robbinsville, NJ, would terminate at the intersection of the Ravine, PA, 102°(T)/113°(M) radial and the Lancaster, PA, 044°(T)/053°(M) radial. This new termination point would be at the SARAA fix, approximately 65 nautical miles northwest of the current end point Robbinsville, NJ.

J-77: J-77, currently extending between Boston, MA, and Westminster, MD, would be removed. Other routes are available for navigation between the Baltimore, MD, area and Boston, MA.

J-80: J-80, currently extending between Oakland, CA, and Bangor, ME, would terminate at Bellaire, OH, eliminating the segments between Bellaire and Bangor, ME. RNAV route Q-480 and jet route J-581 provide alternative routing between Bellaire, OH, and Bangor, ME.

Where new navigation aid radials are cited in a proposed route description, below, both True and Magnetic degrees are listed. Otherwise, only True degrees are stated.

Jet routes are published in paragraph 2004 of FAA Order 7400.9X dated August 7, 2013, and effective September 15, 2013, which is incorporated by reference in 14 CFR 71.1. The jet routes in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic in the northeastern United States.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004—Jet Routes

* * * * *

J-64 [Amended]

From Los Angeles, CA, via INT Los Angeles 083° and Hector, CA, 226° radials; Hector; Peach Springs, AZ; Tuba City, AZ; Rattlesnake, NM; Pueblo, CO; Hill City, KS; Pawnee City, NE; Lamoni, IA; Bradford, IL; via the INT of the Bradford 089° and the Fort Wayne, IN, 280° radials; Fort Wayne; Ellwood City, PA; Ravine, PA; to INT Ravine 102°(T)/113°(M) and Lancaster, PA, 044°(T)/053°(M) radials.

J-77 [Removed]

J-80 [Amended]

From Oakland, CA; Manteca, CA; Coaldale, NV; Wilson Creek, NV; Milford, UT; Grand Junction, CO; Red Table, CO; Falcon, CO; Goodland, KS; Hill City, KS; Kansas City, MO; Spinner, IL; Brickyard, IN; to Bellaire, OH.

Issued in Washington, DC, on March 6, 2014.
Donna Warren,
Acting Manager, Airspace Policy and Regulations Group.

[FR Doc. 2014-05356 Filed 3-11-14; 8:45 am]

BILLING CODE 4910-13-P